DEPARTMENT OF AGRICULTURE

Forest Service

Tuolumne County Resource Advisory Committee; Meeting

AGENCY: Forest Service, USDA.

ACTION: Notice of meeting.

SUMMARY: The Tuolumne County Resource Advisory Committee will meet on March 6, 2002, at the City of Sonora Fire Department, in Sonora, California. The purpose of the meeting is to initiate the Tuolumne County Resource Advisory Committee, and review Public Law 106-393, the Secure Rural Schools and Community Self-Determination Act of 2000.

DATES: The meeting will be held March 6, 2002, from 12 p.m. to 3 p.m.

ADDRESSES: The meeting will be held at the City of Sonora Fire Department located at 201 South Shepherd Street, in Sonora, California (CA 95370).

FOR FURTHER INFORMATION CONTACT: Pat Kaunert, Committee Coordinator USDA, Stanislaus National Forest, 19777 Greenley Road, Sonora, CA 95370 (209) 532-3671; EMAIL pkaunert@fs.fed.us.

SUPPLEMENTARY INFORMATION: Agenda items to be covered include: (1) Welcome and Committee introductions; (2) Legislative History and Federal Advisory Committee Act requirements; (3) Operational guidelines; (4) Preliminary project ideas; (5) Public comment; and (6) Next meeting date, location, and purpose. The meeting is open to the public. Those in attendance will be provided the opportunity to address the Committee.

Dated: February 4, 2002.
Ben Del Villar,
Forest Supervisor.

[FR Doc. 02-3075 Filed 2-7-02; 8:45 am]

BILLING CODE 3410-ED-M